DEPARTMENT OF HOMELAND SECURITY

Coast Guard

33 CFR Part 117

[Docket No. USCG-2011-0107]

Drawbridge Operation Regulation; Intracoastal Waterway (ICW), Inside Thorofare, Ventnor City, NJ

AGENCY: Coast Guard, DHS.

ACTION: Notice of temporary deviation from regulations.

SUMMARY: The Commander, Fifth Coast Guard District, has issued a temporary deviation from the regulations governing the operation of the Dorset Avenue Bridge, across Inside Thorofare, mile 72.1, at Ventnor City. The deviation is necessary to facilitate cleaning and painting operations of the double-leaf bascule drawbridge. This deviation allows restriction of the operation of the draw span.

DATES: This deviation is effective from 7 a.m. on March 8, 2011 until 11:59 p.m. on May 27, 2011.

ADDRESSES: Documents mentioned in this preamble as being available in the docket are part of docket USCG-2011-0107 and are available online by going to http://www.regulations.gov, inserting USCG-2011-0107 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Waverly W. Gregory, Jr., Bridge Administrator, Fifth District; Coast Guard; telephone 757-398-6222, e-mail Waverly.W.Gregory@uscg.mil. If you have questions on viewing the docket, call Renee V. Wright, Program Manager, Docket Operations, telephone 202-366-9826.

SUPPLEMENTARY INFORMATION: The Dorset Avenue Bridge has a vertical clearance in the closed position of 9 feet above mean high water and 12 feet above mean low water.

The drawbridge opens on signal except that from June 1 through September 30, from 9:15 a.m. to 9:15 p.m., the draw need only open at 15 and 45 minutes after the hour, as required by 33 CFR 117.733(g).

A.P. Construction, Inc., on behalf of Atlantic County who owns and operates this double-leaf bascule drawbridge, has requested a temporary deviation from the current operating regulations set out in 33 CFR 117.733(g), to facilitate cleaning and painting of the lift spans.

Under this temporary deviation, the drawbridge will provide a partial opening of the lift spans for vessels. The cleaning and painting require immobilizing half of the draw span to single-leaf operation beginning at 7 a.m. on Tuesday, March 8, 2011, until and including 11:59 p.m. on Friday, May 27, 2011.

Consequently, passage under the bridge will be limited to a 25-foot width for the duration of the project.

The single-bascule leaf not under repair will continue to open for vessels. Prior to an opening of this single-bascule leaf, a work boat occupying the channel underneath this span will also be moved. Finally, the drawbridge will open in the event of an emergency.

Bridge opening data, supplied by Atlantic County and reviewed by the U.S. Coast Guard, revealed vessel openings of the draw span from March 2010 through May 2010. Specifically, the bridge opened for vessels 8, 17, and 85 times during the months of March 2010 through May 2010, respectively. Vessels that can pass under the bridge without a full bridge opening may continue to do so at anytime. Mariners requiring the full opening of the lift spans will be directed to use the Atlantic Ocean as the alternate route.

The Coast Guard will inform the users of the waterway through our Local and Broadcast Notices to Mariners of the closure periods for the bridge so that vessels can arrange their transits to minimize any impact caused by the temporary deviation. In accordance with 33 CFR 117.35(e), the drawbridge must return to its regular operating schedule immediately at the end of the designated time period. This deviation from the operating regulations is authorized under 33 CFR 117.35.

Dated: February 18, 2011.
Waverly W. Gregory, Jr.,
Chief, Bridge Administration Branch, Fifth Coast Guard District.

[FR Doc. 2011-5663 Filed 3-10-11; 8:45 am]

BILLING CODE 9110-04-P